DEPARTMENT OF THE INTERIOR

National Park Service

National Register of Historic Places; Notification of Pending Nominations and Related Actions

Nominations for the following properties being considered for listing or related actions in the National Register were received by the National Park Service before May 19, 2007. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by June 20, 2007.

J. Paul Loether,
Chief, National Register of Historic Places/National Historic Landmarks Program.

ARKANSAS

Ouachita County

Camden Water Battery, Address Restricted, Camden, 07000615

DISTRICT OF COLUMBIA

District of Columbia

Engine Company No. 21, (Firehouses in Washington DC MPS) 1763 Lanier Place, NW., Washington, 07000594

Engine Company No. 25, (Firehouses in Washington DC MPS) 3203 Martin Luther King Jr., Ave., SE., Washington, 07000593

Newton Theater, 3601-3611 12th St., NE., Washington, 07000592

KANSAS

Chase County

Strong City Atchison, Topeka, & Santa Fe Depot, (Railroad Resources of Kansas MPS) 102 W. Topeka Ave., Strong City, 07000607

Chautauqua County

Hewins Park Pavilion, 101 Salebarn Rd., Cedar Vale, 07000602

Dickinson County

Berger House, (Lustron Houses of Kansas MPS) 208 NE 12th St., Abilene, 07000606

Douglas County

Double Hyperbolic Paraboloid House, 934 W. 21st St., Lawrence, 07000605

Kearny County

Deerfield Texaco Service Station, 105 W. 6th, Deerfield, 07000603

Mitchell County

Cather Farm, 4 mi. N of jct. of KS 15 and 24, Beloit, 07000611

Ness County

Indian Village on Pawnee Fork, Address Restricted, Bazine, 07000609

Riley County

Hulse-Daughters House, 617 Colorado St., Manhattan, 07000601

Shawnee County

Hard Chief's Village, Address Restricted, Silver Lake, 07000610

Sumner County

Downtown Wellington Historic District, Roughly bounded by 19th St., 4th St., Jefferson Ave. and the alley behind the Washington Ave. facing buildings, Wellington, 07000600

Washington County

Mahaska Rural High School #3, (Public Schools of Kansas MPS) S. School St., Mahaska, 07000604

Wyandotte County

Fairfax Hills Historic District, (Historic Residential Suburbs in the United States, 1830-1960 MPS) Bounded by Esplanade Ave., Brown Ave. and 12th St., inc. both side of Parkwood Blvd., Coronado Rd. and Hilltop Rd., Kansas City, 07000608

MAINE

Aroostook County

Roosevelt School, E side of ME 1A, Hamlin, 07000598

Cumberland County

Scarborough High School, 272 ME 1, Scarborough, 07000595

Franklin County

Weld Town Hall, 17 School St., Weld, 07000597

Hancock County

Blackwoods Campground, (Acadia National Park MPS) ME 233. Eagle Lake Rd., Bar Harbor, 07000612

Schoodic Peninsula Historic District, (Acadia National Park MPS) 1.5 mi. S of ME 186, Winter Harbor, 07000614

Seawall Campground, (Acadia National Park MPS) Me 233, Eagle Lake Rd., Bar Harbor, 07000613

Penobscot County

Harmony Hall, 24 Kennebec Rd., Hampden, 07000596

MINNESOTA

Cook County

Chik Wauk Lodge, 28 Moose Pond Rd., Grand Marais, 07000599

MISSOURI

St. Louis County

Garrett, Louisa, House, (St. Ferdinand City MRA (AD)) 280 Washington St., Florissant, 07000618

St. Louis Independent City

Roberts Chevrolet, (Auto-Related Resources of St. Louis, Missouri MPS) 5875-91 Delmar Blvd., St. Louis (Independent City), 07000617

Royal Tire Service Inc. Building, (Auto-Related Resources of St. Louis, Missouri MPS) 3229 Washington Ave., St. Louis (Independent City), 07000616

Steelcote Manufacturing Company Paint Factory, 801 Edwin, St. Louis (Independent City), 07000620

United Shoe Machinery Building, 2200-2208 Washington Ave., St. Louis (Independent City), 07000619

MONTANA

Lewis and Clark County

Pope, Francis and Hannah, House, 327 N. Rodney, Helena, 07000591

NEW YORK

Columbia County

Copake United Methodist Church and Copake Cemetery, Church St., Copake, 07000624

Erie County

Corpus Christi R.C. Church Complex, 199 Clark St., Buffalo, 07000630

Greene County

Twilight Park Historic District, Ledge End. Rd., Spray Falls Rd., Upper Level Rd. and vic., Haines Falls, 07000626

Herkimer County

Norway Baptist Church (former), 1067 Newport-Gray Rd., Norway, 07000622

Kings County

Austin, Nichols and Company Warehouse, 184 Kent Ave., Brooklyn, 07000629

Lewis County

Lowville Presbyterian Church, 7707 North State St., Lowville, 07000623

Pines, The, 3998-4000 Lyons Falls Rd., Lyons Falls, 07000621

Onondaga County

Crego, Mrs. I.L., House, 7979 Crego Rd., Baldwinsville, 07000631

Suffolk County

Coltrane House, 247 Candlewood Path, Dix Hills, 07000628

Sisters of St. Dominic Motherhouse Complex, 555 Albany Ave., North Amityville, 07000625

Wyoming County

Smith, Augustus A., House, 125 Main St., Attica, 07000627

OHIO

Cuyahoga County

Birdtown Historic District, Roughly bounded by Magee Rd., Plover Rd., Halstead Rd., and Madison Ave., Lakewood, 07000634

Franklin County

Green Lawn Abbey, 700 Greenlawn Ave., Columbia, 07000632

Summit County

First National Bank Tower, 106 S. Main St., Akron, 07000633

A request for a MOVE has been made for the following resource: (Palmer-Lewis Octagon)

WISCONSIN

La Crosse County

Palmer Brother's Octagons, 358 N. Leonard St. and WI 16 West Salem vicinity, 79000092

[FR Doc. E7-10728 Filed 6-4-07; 8:45 am]

BILLING CODE 4312-51-P